DEPARTMENT OF HEALTH AND HUMAN SERVICES

Centers for Medicare & Medicaid Services

[Document Identifier: CMS-10398 #7]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. On October 23, 2011, OMB approved our initial request to use the generic clearance process under control number 0938-1148 (CMS-10398). It was last approved on April 26, 2021, via the standard PRA process which included the publication of 60- and 30-day Federal Register notices. The scope of the April 2021 umbrella accounts for Medicaid and CHIP State plan amendments, waivers, demonstrations, and reporting. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by November 15, 2022.

ADDRESSES: When commenting, please reference the applicable form number (see below) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10398 (#7)/OMB control number: 0938-1148, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION: Following is a summary of the use and burden associated with the subject information collection(s). More detailed information can be found in the collection's supporting statement and associated materials (see ADDRESSES).

Generic Information Collections

1. Title of Information Collection: CHIPRA Connecting Kids to Coverage Outreach and Enrollment Grants; Type of Information Collection Request: Revision of a currently approved collection; Use: The primary goal of the HEALTHY KIDS Act cooperative agreements is to enroll eligible but uninsured children, with the option to target parents, into Medicaid and CHIP and assist currently enrolled children with the renewal process to keep eligible children enrolled in coverage. In order to measure this aspect of grantee performance, grantees are required to report certain data elements. Section 2113(d) of the Social Security Act requires that CMS publish enrollment data and annual reports to Congress on the grant-funded outreach and enrollment efforts. This October 2022 iteration: (1) adds a new round of HEALTHY KIDS cooperative agreements awarded in July 2022 identified as HK2022, (2) adds a revised Cycle Vb. Monthly Progress Report Template and a revised Cycle Vb. Monthly Progress Report Template with AI/AN Targets, and adds language for a proposed round of HEALTHY KIDS AI/AN cooperative agreements scheduled for award in FY2023. Form Number: CMS-10398 (#7) (OMB control number: 0938-1148); Frequency: Yearly, quarterly, once, and occasionally; Affected Public: State, Local, or Tribal Governments; Number of Respondents: 47; Total Annual Responses: 3,822; Total Annual Hours: 19,838. For policy questions regarding this collection contact Joyce Jordan at 410-786-3413.

Dated: October 26, 2022.
William N. Parham, III
Director, Paperwork Reduction Staff, Office of Strategic Operations and Regulatory Affairs.

[FR Doc. 2022-23670 Filed 10-31-22; 8:45 am]

BILLING CODE 4120-01-P